ENVIRONMENTAL PROTECTION AGENCY

40 CFR Part 52

[EPA-R09-OAR-2018-0602; FRL-9988-52-Region 9]

Air Plan Approval; California; El Dorado County Air Quality Management District; Reasonably Available Control Technology Demonstration

AGENCY: Environmental Protection Agency (EPA).

ACTION: Final rule.

SUMMARY: The Environmental Protection Agency (EPA) is taking final action to approve a revision to the El Dorado County Air Quality Management District (EDCAQMD or “District”) portion of the California State Implementation Plan (SIP). This revision concerns the District's demonstration regarding reasonably available control technology (RACT) requirements for the 2008 8-hour ozone National Ambient Air Quality Standard (NAAQS) and negative declarations for several source categories. We are approving local SIP revisions to demonstrate that RACT is implemented as required under the Clean Air Act (CAA or “the Act”).

DATES: This rule is effective on January 30, 2019.

ADDRESSES: The EPA has established a docket for this action under Docket ID No. EPA-R09-OAR-2018-0602. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Stanley Tong, EPA Region IX, (415) 947-4122, tong.stanley@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On October 9, 2018 (83 FR 50548), the EPA proposed to approve EDCAQMD's “Reasonably Available Control Technology (RACT) State Implementation Plan (SIP) Update Analysis Staff Report” (“2017 RACT SIP”), submitted to the EPA by the California Air Resources Board (CARB) on January 4, 2017,¹ for approval as a revision to the California SIP. EDCAQMD's January 3, 2017 2017 RACT SIP also included negative declarations for several control techniques guidelines (CTG) source categories where the District certified that it had no sources subject to the CTG documents. The submittal also included EDCAQMD's Resolution 002-2017, which approved the 2017 RACT SIP and certified the District has no major stationary sources of volatile organic compounds (VOC) or oxides of nitrogen (NOX).

¹ The EDCAQMD adopted its 2017 RACT SIP on January 3, 2017.

We proposed to approve the 2017 RACT SIP and negative declarations because we determined that they complied with the relevant CAA requirements. Our proposed action contains more information on the documents and our evaluation.

II. Public Comments and EPA Responses

The EPA's proposed action provided a 30-day public comment period. During this period, we received one comment that supported our proposed approval of EDCAQMD's 2017 RACT SIP. The commenter also raised comments that were not germane to our proposed rulemaking action (natural asbestos formations and factors contributing to the reduced clarity of Lake Tahoe).

III. EPA Action

No comments were submitted that change our assessment of EDCAQMD's 2017 RACT SIP and negative declarations as described in our proposed action. Therefore, as authorized in section 110(k)(3) of the Act, the EPA is fully approving the 2017 RACT SIP and negative declarations into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 1, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: November 30, 2018.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(513) to read as follows:

§ 52.220 Identification of plan—in part.

* * * * *

(c) * * *

(513) The following plan was submitted on January 4, 2017 by the Governor's designee.

(i) [Reserved]

(ii) Additional materials. (A) El Dorado County Air Quality Management District.

(1) Reasonably Available Control Technology (RACT) State Implementation Plan (SIP) Update Analysis Staff Report, adopted on January 3, 2017.

(2) Board of Directors of the El Dorado County Air Quality Management District, Resolution No. 002-2017, “Resolution Approving 2008 Reasonably Available Control Technology (RACT) State Implementation Plan (SIP) Update Analysis.”

* * * * *

3. Section 52.222 is amended by adding paragraph (a)(7)(iv) to read as follows:

§ 52.222 Negative declarations.

(a) * * *

(7) * * *

(iv) The following negative declarations for the 2008 NAAQS were adopted by the El Dorado County Air Quality Management District on January 3, 2017, and submitted to the EPA on January 4, 2017.

Negative Declarations for the 2008 Ozone NAAQS
CTG document No. | Title
EPA-450/2-77-008 | Control of Volatile Organic Emissions from Existing Stationary Sources—Volume II: Surface Coating of Cans, Coils, Paper, Fabrics, Automobiles, and Light-Duty Trucks.
EPA-450/2-77-022 | Control of Volatile Organic Emissions from Solvent Metal Cleaning.
EPA-450/2-77-025 | Control of Refinery Vacuum Producing Systems, Wastewater Separators, and Process Unit Turnarounds.
EPA-450/2-77-026 | Control of Hydrocarbons from Tank Truck Gasoline Loading Terminals.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-77-036 | Control of Volatile Organic Emissions from Storage of Petroleum Liquids in Fixed-Roof Tanks.
EPA-450/2-78-015 | Control of Volatile Organic Emissions from Existing Stationary Sources—Volume VI: Surface Coating of Miscellaneous Metal Parts and Products.
EPA-450/2-78-029 | Control of Volatile Organic Emissions from Manufacture of Synthesized Pharmaceutical Products.
EPA-450/2-78-030 | Control of Volatile Organic Emissions from Manufacture of Pneumatic Rubber Tires.
EPA-450/2-78-032 | Control of Volatile Organic Emissions from Existing Stationary Sources—Volume VII: Factory Surface Coating of Flat Wood Paneling.
EPA-450/2-78-033 | Control of Volatile Organic Emissions from Existing Stationary Sources—Volume VIII: Graphic Arts-Rotogravure and Flexography.
EPA-450/2-78-036 | Control of Volatile Organic Compound Leaks from Petroleum Refinery Equipment.
EPA-450/2-78-047 | Control of Volatile Organic Emissions from Petroleum Liquid Storage in External Floating Roof Tanks.
EPA-450/3-82-009 | Control of Volatile Organic Compound Emissions from Large Petroleum Dry Cleaners.
EPA-450/3-83-006 | Control of Volatile Organic Compound Leaks from Synthetic Organic Chemical Polymer and Resin Manufacturing Equipment.
EPA-450/3-83-007 | Control of Volatile Organic Compound Equipment Leaks from Natural Gas/Gasoline Processing Plants.
EPA-450/3-83-008 | Control of Volatile Organic Compound Emissions from Manufacture of High-Density Polyethylene, Polypropylene, and Polystyrene Resins.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-96-007 | Control of Volatile Organic Compound Emissions from Wood Furniture Manufacturing Operations.
EPA-453/R-94-032 61 FR 44050; 8/27/96 | Alternative Control Technology Document—Surface Coating Operations at Shipbuilding and Ship Repair Facilities Control Techniques Guidelines for Shipbuilding and Ship Repair Operations (Surface Coating).
EPA-453/R-97-004 59 FR 29216; 6/6/94 | Aerospace MACT and Aerospace (CTG & MACT).
EPA-453/R-06-001 | Control Techniques Guidelines for Industrial Cleaning Solvents.
EPA-453/R-06-002 | Control Techniques Guidelines for Offset Lithographic Printing and Letterpress Printing.
EPA-453/R-06-003 | Control Techniques Guidelines for Flexible Package Printing.
EPA-453/R-06-004 | Control Techniques Guidelines for Flat Wood Paneling Coatings
EPA 453/R-07-003 | Control Techniques Guidelines for Paper, Film, and Foil Coatings.
EPA 453/R-07-004 | Control Techniques Guidelines for Large Appliance Coatings.
EPA 453/R-07-005 | Control Techniques Guidelines for Metal Furniture Coatings.
EPA 453/R-08-003 | Control Techniques Guidelines for Miscellaneous Metal and Plastic Parts Coatings.
EPA 453/R-08-004 | Control Techniques Guidelines for Fiberglass Boat Manufacturing Materials.
EPA 453/R-08-005 | Control Techniques Guidelines for Miscellaneous Industrial Adhesives.
EPA 453/R-08-006 | Control Techniques Guidelines for Automobile and Light-Duty Truck Assembly Coatings.
EPA 453/B16-001 | Control Techniques Guidelines for the Oil and Natural Gas Industry.
Major non-CTG VOC sources.
Major non-CTG NOX sources.

* * * * *

[FR Doc. 2018-28294 Filed 12-28-18; 8:45 am]

BILLING CODE 6560-50-P